DEPARTMENT OF THE TREASURY

Office of the Comptroller of the Currency

[Docket No. 00-17]

Privacy Act of 1974, as amended; System of Records

AGENCY: Office of the Comptroller of the Currency, Treasury.

ACTION: Notice of proposed alterations to six Privacy Act Systems of Records.

SUMMARY: In accordance with the Privacy Act of 1974, as amended, the Office of the Comptroller of the Currency (OCC) gives notice of proposed alterations to six Privacy Act systems of records.

DATES: The proposed altered systems of records will become effective November 26, 2001 unless comments are received which would result in a contrary determination.

ADDRESSES: You should send your comments to the Office of the Comptroller of the Currency, Public Information Room, Docket No. 00-17, 250 E Street, SW, Washington, DC 20219. You may inspect comments received at the same location. You may send your comments by facsimile transmission to FAX number 202-874-4448 or by electronic mail to regs.comments@occ.treas.gov.

FOR FURTHER INFORMATION CONTACT: Frank Vance, Jr., Disclosure Officer, Communications Division, (202) 874-4700 or Ellen M. Warwick, Special Counsel, Administrative and Internal Law Division, (202) 874-4460.

SUPPLEMENTARY INFORMATION: The OCC has conducted a review of its Privacy Act systems of records for compliance with the Privacy Act (5 U.S.C. 552a) and with Appendix 1 to OMB Circular A-130, Federal Agency Responsibilities for Maintaining Records About Individuals, dated November 30, 2000, and is proposing to alter six of its current systems of records. In addition to the changes noted below, the proposed alterations also update the notices by restating many of the other data elements, such as “notification procedure,” for each of the notices. More specific alterations to the six current systems of records are as follows:

(1) Treasury/Comptroller .013—Enforcement and Compliance Information System

The proposed alterations to this system of records include:

(a) To change the title and number of the system to “Treasury/Comptroller .110—Reports of Suspicious Activities;”

(b) To add witnesses to the categories of individuals covered by the system;

(c) To consolidate and restate existing routine uses and add two routine uses.

Records maintained in the Enforcement and Compliance Information System have been exempted by rule, and the records maintained in the altered Treasury/Comptroller .110—Reports of Suspicious Activities system will continue to be exempted by rule from certain provisions of the Privacy Act pursuant to 5 U.S.C. 552a(j)(2) and (k)(2). The notice for this system of records was last published in the Federal Register at 63 FR 69757 dated December 17, 1998.

(2) Treasury/Comptroller .015—Chain Banking Organizations System

The OCC is proposing to alter this system of records covering chain banking organization records for the following reasons:

(a) To renumber the system as “Treasury/Comptroller .200;”

(b) To more fully describe, by addition of a definition for chain banking, the categories of individuals covered by the system; and

(c) To consolidate and restate existing routine uses and add three routine uses.

The notice for this system of records was last published in the Federal Register at 63 FR 69758 dated December 17, 1998.

(3) Treasury/ Comptroller .221—Registration Records for Municipal and United States Government Securities Dealers

The OCC proposes to alter this system of records covering bank securities dealer records:

(a) To change the title and number of the system to “Treasury/Comptroller .210—Bank Securities Dealers System;” and

(b) To consolidate and restate existing routine uses and add five routine uses.

The notice for this system of records was last published in the Federal Register at 63 FR 69760 dated December 17, 1998.

(4) Treasury/Comptroller .500—Chief Counsel's Management Information System

The OCC proposes to alter this system of records covering the Chief Counsel's management information records to restate existing routine uses and add six routine uses.

Records maintained in the Chief Counsel's Management Information System have been, and will continue to be, exempted by rule from certain provisions of the Privacy Act pursuant to 5 U.S.C. 552a(j)(2) and (k)(2). The notice for this system of records was last published in the Federal Register at 63 FR 69763 dated December 17, 1998.

(5) Treasury/Comptroller .016—Litigation Information System

The OCC is proposing to alter its current system of records covering litigation records to consolidate and restate existing routine uses and add four routine uses. This system of records is to be renumbered Treasury/Comptroller .510.

The OCC proposes to exempt records maintained in the Litigation Information System from certain of the Privacy Act's requirements pursuant to 5 U.S.C. 552a(j)(2) and (k)(2). The notice for this system was last published in the Federal Register at 63 FR 69759 dated December 17, 1998.

(6) Treasury/Comptroller .004—Consumer Complaint and Inquiry Information System

The proposed alterations to this system of records include:

(a) To renumber the system as “Treasury/Comptroller .600;”

(b) To add individuals who submit inquiries to the categories of individuals covered by the system; and

(c) To restate an existing routine use and add seven routine uses.

The OCC proposes to exempt records maintained in the Consumer Complaint and Inquiry Information System from certain of the Privacy Act's requirements pursuant to 5 U.S.C. 552a(k)(2). The notice for this system was last published in the Federal Register at 63 FR 69956 dated December 17, 1998.

In the notice of proposed rulemaking, which is published separately in the Federal Register, the Department and the OCC are giving public notice of a proposed rule to add exemptions to two existing systems of records (Treasury/Comptroller .016—Litigation Information System, and Treasury/Comptroller .004—Consumer Complaint and Inquiry Information System) from certain provisions of 5 U.S.C. 552a pursuant to subsection (j)(2) and/or (k)(2). Comments relating to this proposed rulemaking may be directed to the OCC as provided in the notice for that proposed action.

The altered system of records reports, required by the Privacy Act, 5 U.S.C. 552a(r), have been submitted to the Committee on Government Reform and Oversight of the House of Representatives, the Committee on Governmental Affairs of the Senate, and the Office of Management and Budget, pursuant to Appendix 1 to OMB Circular A-130, Federal Agency Responsibilities for Maintaining Records About Individuals, dated February 8, 1996.

The six proposed altered systems of records, described above, are published in their entirety below.

Dated: September 10, 2001.
W. Earl Wright, Jr.,
Chief Management and Administrative Programs Officer.

TREASURY/COMPTROLLER .110

System Name:

Reports of Suspicious Activities—Treasury/Comptroller.

System Location:

Office of the Comptroller of the Currency (OCC), Enforcement and Compliance Division, 250 E Street, SW., Washington, DC 20219-0001.

Suspicious Activity Reports (SARs) are managed by the Financial Crimes Enforcement Network (FinCEN), Department of the Treasury, 2070 Chain Bridge Road, Vienna, Virginia 22182, and stored at the IRS Computing Center in Detroit, Michigan. Information extracted from or relating to SARs or reports of crimes and suspected crimes filed by OCC personnel or by national banks, District of Columbia banks operating under the OCC's regulatory authority, or federal branches or agencies of foreign banks (OCC-regulated entities) is maintained in an OCC electronic database. This database, as well as the database managed by FinCEN, is accessible to designated OCC headquarters and district office personnel.

Categories of Individuals Covered by The System:

Individuals covered by this system are individuals who have been designated as suspects or witnesses in SARs or reports of crimes and suspected crimes.

Categories of Records in The System:

Records maintained in this system may contain the name of the entity to which a report pertains, the names of individual suspects and witnesses, the types of suspicious activity involved, and the amounts of known losses. Other records maintained in this system may contain arrest, indictment and conviction information, and information relating to administrative actions taken or initiated in connection with activities reported in a SAR or a report of crime and suspected crime.

Authority For Maintenance of The System:

12 U.S.C. 1, 27, 481, 1817(j), 1818, 1820, and 1831i; 31 U.S.C. 5318.

Purpose:

This system of records is used by the OCC to monitor criminal law enforcement actions taken with respect to known or suspected criminal activities affecting OCC-regulated entities. System information is used to determine whether matters reported in SARs warrant the OCC's supervisory action. Information in this system also may be used for other supervisory and licensing purposes, including the review of the qualifications and fitness of individuals who are or propose to become responsible for the business operations of OCC-regulated entities.

Routine uses of records maintained in the system, including categories of users and the purposes of such uses:

Information maintained in this system may be disclosed to:

(1) The Department of Justice through periodic reports containing the identities of individuals suspected of having committed violations of criminal law;

(2) An OCC-regulated entity if the SAR relates to that institution;

(3) Third parties to the extent necessary to obtain information that is relevant to an examination or investigation;

(4) Appropriate governmental or self-regulatory organizations when the OCC determines that the records are relevant and necessary to the governmental or self-regulatory organization's regulation and supervision of financial service providers, including the review of the qualifications and fitness of individuals who are or propose to become responsible for the business operations of such providers;

(5) An appropriate governmental, international, tribal, self-regulatory, or professional organization if the information is relevant to a known or suspected violation of a law or licensing standard within that organization's jurisdiction;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A contractor or agent who needs to have access to this system of records to perform an assigned activity; or

(8) Third parties when mandated or authorized by statute.

Policies and practices for storing, retrieving, accessing, retaining, and disposing of records in the system:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Managers and Address:

Director, Enforcement and Compliance Division, Law Department, Office of the Comptroller of the Currency, 250 E Street, SW., Washington, DC 20219-0001.

Notification Procedure:

An individual wishing to be notified if he or she is named in non-exempt records maintained in this system must submit a written request to the Disclosure Officer, Communications Division, Office of the Comptroller of the Currency, 250 E Street, SW., Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures

See “Notification Procedure” above.

Record Source Categories:

Non-exempt information maintained in this system is obtained from OCC personnel, OCC-regulated entities, other financial regulatory agencies, criminal law enforcement authorities, and FinCEN.

Exemptions Claimed for the System:

Records in this system have been designated as exempt from 5 U.S.C. 552a(c)(3) and (4), (d)(1), (2), (3), and (4), (e)(1), (e)(2), (e)(3), (e)(4)(G), (H), and (I), (e)(5), and (e)(8), (f), and (g) of the Privacy Act pursuant to 5 U.S.C. 552a(j)(2) and (k)(2). See 31 CFR 1.36.

TREASURY/COMPTROLLER .200

System Name:

Chain Banking Organizations System—Treasury/Comptroller.

System Location:

Office of the Comptroller of the Currency (OCC), Core Policy Development, 250 E Street, SW, Washington, DC 20219-0001, and the OCC's district offices, as follows:

(1) Northeastern District Office, 1114 Avenue of the Americas, Suite 3900, New York, NY 10036-7780;

(2) Southeastern District Office, Marquis One Tower, Suite 600, 245 Peachtree Center Ave., NE, Atlanta, GA 30303-1223;

(3) Central District Office, One Financial Plaza, Suite 2700, 440 South LaSalle Street, Chicago, IL 60605-1073;

(4) Midwestern District Office, 2345 Grand Boulevard, Suite 700, Kansas City, MO 64108-2683;

(5) Southwestern District Office, 500 North Akard Street, Suite 1600, Dallas, TX 75201-3394; and

(6) Western District Office, 50 Fremont Street, Suite 3900, San Francisco, CA 94105-2292.

Categories of Individuals Covered by The System:

Individuals covered by this system are individuals who directly, indirectly, or acting through or in concert with one or more other individuals, own or control a chain banking organization. A chain banking organization exists when two or more independently chartered financial institutions, including at least one OCC-regulated entity, are controlled either directly or indirectly by the same individual, family, or group of individuals closely associated in their business dealings. Control generally exists when the common ownership has the ability or power, directly or indirectly, to:

(1) Control the vote of 25 percent or more of any class of an organization's voting securities;

(2) Control in any manner the election of a majority of the directors of an organization; or

(3) Exercise a controlling influence over the management or policies of an organization. A registered multibank holding company and its subsidiary banks are not ordinarily considered a chain banking group unless the holding company is linked to other banking organizations through common control.

Categories of Records in the System:

Records maintained in this system contain the names of individuals who, either alone or in concert with others, own or control a chain banking organization. Other information may contain: the name, location, charter number, charter type, and date of last examination of each organization comprising a chain; the percentage of outstanding stock owned or controlled by controlling individuals or groups; and the name of any intermediate holding entity and the percentage of such entity owned or controlled by the individual or group.

Authority For Maintenance of The System:

12 U.S.C. 1, 481, 1817(j), and 1820.

Purpose:

Information maintained in this system is used by the OCC to carry out its supervisory responsibilities with respect to national banks and District of Columbia banks operating under the OCC's regulatory authority, including the coordination of examinations, supervisory evaluations and analyses, and administrative enforcement actions with other financial regulatory agencies.

Routine uses of records maintained in the system, including categories of users and the purposes of such uses:

Information maintained in this system may be disclosed to:

(1) An OCC-regulated entity when information is relevant to the entity's operation;

(2) Appropriate governmental or self-regulatory organizations when the OCC determines that the records are relevant and necessary to the governmental or self-regulatory organization's regulation or supervision of financial service providers;

(3) An appropriate governmental, tribal, self-regulatory, or professional organization if the information is relevant to a known or suspected violation of a law or licensing standard within the organization's jurisdiction;

(4) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(5) A Congressional office when the information is relevant to an inquiry made at the request of the individual about whom the record is maintained;

(6) A contractor or agent who needs to have access to this system of records to perform an assigned activity; or

(7) Third parties when mandated or authorized by statute.

Policies and practices for storing, retrieving, accessing, retaining, and disposing of records in the system:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Managers and Address:

Director, Core Policy Development, Office of the Comptroller of the Currency, 250 E Street, SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

RECORD SOURCE CATEGORIES:

Information maintained in this system is obtained from OCC personnel, other Federal financial regulatory agencies, and individuals who file notices of their intention to acquire control over an OCC-regulated financial institution.

EXEMPTIONS CLAIMED FOR THE SYSTEM:

None.

TREASURY/COMPTROLLER .210

SYSTEM NAME:

Bank Securities Dealers System—Treasury/Comptroller.

SYSTEM LOCATION:

Office of the Comptroller of the Currency (OCC), Treasury and Market Risk Division, 250 E Street, SW, Washington, DC 20219-0001.

CATEGORIES OF INDIVIDUALS COVERED BY THE SYSTEM:

Individuals covered by this system are individuals who are or seek to be associated with a municipal securities dealer or a government securities broker/dealer that is a national bank, a District of Columbia bank operating under the OCC's regulatory authority, or a department or division of any such bank in the capacity of a municipal securities principal, municipal securities representative, or government securities associated person.

CATEGORIES OF RECORDS IN THE SYSTEM:

Records maintained in this system may contain an individual's name, address history, date and place of birth, social security number, educational and occupational history, certain professional qualifications and testing information, disciplinary history, or information about employment termination.

AUTHORITY FOR MAINTENANCE OF THE SYSTEM:

12 U.S.C. 1, 481, 1818, and 1820; 15 U.S.C. 78o-4, 78o-5, 78q, and 78w.

PURPOSES:

This system of records will be used by the OCC to carry out its responsibilities under the Federal securities laws relating to the professional qualifications and fitness of individuals who engage or propose to engage in securities activities on behalf of national banks and District of Columbia banks operating under the OCC's regulatory authority.

ROUTINE USES OF RECORDS MAINTAINED IN THE SYSTEM, INCLUDING CATEGORIES OF USERS AND THE PURPOSES OF SUCH SYSTEMS:

Information maintained in this system may be disclosed to:

(1) An OCC-regulated entity in connection with its filing relating to the qualifications and fitness of an individual serving or proposing to serve the entity in a securities-related capacity;

(2) Third parties to the extent needed to obtain additional information concerning the professional qualifications and fitness of an individual covered by the system;

(3) Third parties inquiring about the subject of an OCC enforcement action;

(4) Appropriate governmental or self-regulatory organizations when the OCC determines that the records are relevant and necessary to the governmental or self-regulatory organization's regulation or supervision of financial service providers, including the review of the qualifications and fitness of individuals who are or propose to become involved in the provider's securities business;

(5) An appropriate governmental, tribal, self-regulatory, or professional organization if the information is relevant to a known or suspected violation of a law or licensing standard within that organization's jurisdiction;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A Congressional office when the information is relevant to an inquiry made at the request of the individual about whom the record is maintained;

(8) A contractor or agent who needs to have access to this system of records to perform an assigned activity; or

(9) Third parties when mandated or authorized by statute.

POLICIES AND PRACTICES FOR STORING, RETRIEVING, ACCESSING, RETAINING, AND DISPOSING OF RECORDS IN THE SYSTEM:

STORAGE:

Records maintained in this system are stored electronically and in file folders.

RETRIEVABILITY:

Records maintained in this system may be retrieved by the name of an individual covered by the system.

Safeguards:

Access to the electronic database is restricted to authorized personnel who have been issued non-transferrable access codes and passwords. Other records are maintained in locked file cabinets or rooms.

Retention and Disposal:

Records are retained in accordance with the OCC's records management policies and National Archives and Records Administration regulations.

System Manager(s) and Address:

Director, Treasury and Market Risk Division, Office of the Comptroller of the Currency, 250 E Street SW, Washington, DC 20219-0001.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from OCC-regulated entities that are: municipal securities dealers and/or government securities brokers/dealers; individuals who are or propose to become municipal securities principals, municipal securities representatives, or government securities associated persons; or governmental and self-regulatory organizations that regulate the securities industry.

Exemptions Claimed for the System:

None.

TREASURY/COMPTROLLER .500

System Name:

Chief Counsel's Management Information System—Treasury/Comptroller.

System Location:

Office of the Comptroller of the Currency (OCC), Office of Chief Counsel, 250 E Street, SW, Washington, DC 20219-0001.

Categories of Individuals Covered by The System:

Individuals covered by the system are: individuals who have requested information or action from the OCC; parties or witnesses in civil proceedings or administrative actions; individuals who have submitted requests for testimony and/or production of documents pursuant to 12 CFR Part 4, Subpart C; individuals who have been the subjects of administrative actions or investigations initiated by the OCC, including current or former shareholders, directors, officers, employees and agents of OCC-regulated entities, current, former, or potential bank customers, and OCC employees.

Categories of Records in The System:

Records maintained in this system may contain the names of: banks; requestors; parties; witnesses; current or former shareholders; directors, officers, employees and agents of OCC-regulated entities; current, former or potential bank customers; and current or former OCC employees. These records contain summarized information concerning the description and status of Law Department work assignments. Supporting records may include pleadings and discovery materials generated in connection with civil proceedings or administrative actions, and correspondence or memoranda related to work assignments.

Authority for Maintenance of the System:

12 U.S.C. 1, 93(d)(second), 481, 1818, and 1820.

Purpose(s):

This system of records is used to track the progress and disposition of OCC Law Department work assignments.

Routine uses of records maintained in the system, including categories of users and the purposes of such uses:

Information maintained in this system may be disclosed to:

(1) An OCC-regulated entity involved in an assigned matter;

(2) Third parties to the extent necessary to obtain information that is relevant to the resolution of an assigned matter;

(3) The news media in accordance with guidelines contained in 28 CFR 50.2;

(4) Appropriate governmental or self-regulatory organizations when the OCC determines that the records are relevant and necessary to the governmental or self-regulatory organization's regulation or supervision of financial service providers;

(5) An appropriate governmental, tribal, self-regulatory, or professional organization if the information is relevant to a known or suspected violation of a law or licensing standard within that organization's jurisdiction;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A Congressional office when the information is relevant to an inquiry made at the request of the individual about whom the record is maintained;

(8) A contractor or agent who needs to have access to this system of records to perform an assigned activity; or

(9) Third parties when mandated or authorized by statute.

Policies and practices for storing, retrieving, accessing, retaining, and disposing of records in the system:

Storage:

Records maintained in this system are stored electronically and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Manager(s) and Address:

Executive Assistant to the Chief Counsel, Law Department, Office of the Comptroller of the Currency, 250 E Street, SW., Washington, DC 20219-0001.

Notification Procedure:

An individual wishing to be notified if he or she is named in non-exempt records maintained in this system must submit a written request to the Disclosure Officer, Communications Division, Office of the Comptroller of the Currency, 250 E Street, SW., Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from individuals who request information or action from the OCC, individuals who are involved in legal proceedings in which the OCC is a party or has an interest, OCC personnel, and OCC-regulated entities and other entities, including governmental, tribal, self-regulatory, and professional organizations.

Exemptions Claimed for the System:

Records maintained in this system have been designated as exempt from 5 U.S.C. 552a(c)(3) and (4), (d)(1), (2), (3), and (4), (e)(1), (e)(2), (e)(3), (e)(4)(G), (H), and (I), (e)(5), (e)(8), (f), and (g) of the Privacy Act pursuant to 5 U.S.C. 552a(j)(2) and (k)(2). See 31 CFR 1.36.

TREASURY/COMPTROLLER .510

System Name:

Litigation Information System—Treasury/Comptroller.

System Location:

Office of the Comptroller of the Currency (OCC), Office of Chief Counsel, Litigation Division, 250 E Street, SW., Washington, DC 20219-0001.

Categories of Individuals Covered by The System:

Individuals covered by the system are parties or witnesses in civil proceedings or administrative actions, and individuals who have submitted requests for testimony or the production of documents pursuant to 12 CFR part 4, subpart C.

Categories of Records in the System:

Records maintained in this system are those generated in connection with civil proceedings or administrative actions, such as discovery materials, evidentiary materials, transcripts of testimony, pleadings, memoranda, correspondence, and requests for information pursuant to 12 CFR part 4, subpart C.

Authority For Maintenance of The System:

12 U.S.C. 1, 93(d)(second), 481, 1818, and 1820.

Purpose:

This system of records is used by the OCC in representing its interests in legal actions and proceedings in which the OCC, its employees, or the United States is a party or has an interest.

Routine uses of records maintained in the system, including categories of users and the purposes of such uses:

Information maintained in this system may be disclosed to:

(1) Third parties to the extent necessary to obtain information that is relevant to the subject matter of civil proceedings or administrative actions involving the OCC;

(2) The news media in accordance with guidelines contained in 28 CFR 50.2;

(3) Appropriate governmental or self-regulatory organizations when the OCC determines that the records are relevant and necessary to the governmental or self-regulatory organization's regulation or supervision of financial service providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A Congressional office when the information is relevant to an inquiry made at the request of the individual about whom the record is maintained;

(7) A contractor or agent who needs to have access to this system of records to perform an assigned activity; or

(8) Third parties when mandated or authorized by statute.

Policies and practices for storing, retrieving, accessing, retaining, and disposing of records in the system:

Storage:

Records maintained in this system are stored in file folders.

Retrievability:

Records maintained in this system may be retrieved by the name of an individual covered by the system.

Safeguards:

System records are maintained in locked file cabinets or rooms.

Retention and Disposal:

Records are retained in accordance with the OCC's records management policies and National Archives and Records Administration regulations.

System Managers and Address:

Director, Litigation Division, Law Department, Office of the Comptroller of the Currency, 250 E Street, SW., Washington, DC 20219-0001.

Notification Procedure:

An individual wishing to be notified if he or she is named in non-exempt records maintained in this system must submit a written request to the Disclosure Officer, Communications Division, Office of the Comptroller of the Currency, 250 E Street, SW., Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures

See “Notification Procedure” above.

Record Source Categories:

Non-exempt information maintained in this system is obtained from: individuals or entities involved in legal proceedings in which the OCC is a party or has an interest; OCC-regulated entities; and governmental, tribal, self-regulatory or professional organizations.

Exemptions Claimed for the System:

Records maintained in this system have been designated as exempt from 5 U.S.C. 552a(c)(3) and (4), (d)(1), (2), (3), and (4), (e)(1), (e)(2), (e)(3), (e)(4)(G), (H), and (I), (e)(5), (e)(8), (f), and (g) of the Privacy Act pursuant to 5 U.S.C. 552a(j)(2) and (k)(2). See 31 CFR 1.36.

TREASURY/COMPTROLLER .600

System Name:

Consumer Complaint and Inquiry Information System—Treasury/Comptroller.

System Location:

Office of the Comptroller of the Currency (OCC), Customer Assistance Group, 1301 McKinney Street, Suite 3725, Houston, Texas 77010-3034.

Categories of Individuals Covered by The System:

Individuals covered by this system are individuals who submit complaints or inquiries about national banks, District of Columbia banks operating under OCC's regulatory authority, federal branches and agencies of foreign banks, or subsidiaries of any such entity (OCC-regulated entities), and other entities that the OCC does not regulate. This includes individuals who file complaints and inquiries directly with the OCC or through other parties, such as attorneys, members of Congress, or other governmental organizations.

Categories of Records in The System:

Records maintained in this system may contain: the name and address of the individual who submitted the complaint or inquiry; when applicable, the name of the individual or organization referring a matter; the name of the entity that is the subject of the complaint or inquiry; the date of the incoming correspondence and its receipt; numeric codes identifying the complaint or inquiry's nature, source, and resolution; the OCC office and personnel assigned to review the correspondence; the status of the review; the resolution date; and, when applicable, the amount of reimbursement. Supporting records may contain correspondence between the OCC and the individual submitting the complaint or inquiry, correspondence between the OCC and the regulated entity, and correspondence between the OCC and other law enforcement or regulatory bodies.

Authority For Maintenance of The System:

12 U.S.C. 1, 481, and 1820; 15 U.S.C. 41 et seq.

Purpose(s)

This system of records is used to administer the OCC's Customer Assistance Program and to track the processing and resolution of complaints and inquiries.

Routine uses of records maintained in the system, including categories of users and the purposes of such uses:

Information maintained in this system may be disclosed to:

(1) An OCC-regulated entity that is the subject of a complaint or inquiry;

(2) Third parties to the extent necessary to obtain information that is relevant to the resolution of a complaint or inquiry;

(3) The appropriate governmental, tribal, self-regulatory or professional organization if that organization has jurisdiction over the subject matter of the complaint or inquiry, or the entity that is the subject of the complaint or inquiry;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A Congressional office when the information is relevant to an inquiry made at the request of the individual about whom the record is maintained;

(7) A contractor or agent who needs to have access to this system of records to perform an assigned activity; or

(8) Third parties when mandated or authorized by statute.

Policies and practices for storing, retrieving, accessing, retaining, and disposing of records in the system:

Storage:

Records maintained in this system are stored electronically and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Manager and Address:

Ombudsman, Office of the Comptroller of the Currency, 1301 McKinney Street, Suite 3725, Houston, Texas 77010-3034.

Notification Procedure:

An individual wishing to be notified if he or she is named in non-exempt records maintained in this system must submit a written request to the Disclosure Officer, Communications Division, Office of the Comptroller of the Currency, 250 E Street, SW, Washington, DC 20219-0001. See 31 CFR part 1, subpart C, appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures

See “Notification Procedure” above.

Record Source Categories:

Non-exempt information maintained in this system is obtained from individuals and entities filing complaints and inquiries, other governmental authorities, and OCC-regulated entities that are the subjects of complaints and inquiries.

Exemptions Claimed for the System:

Records maintained in this system have been designated as exempt from 5 U.S.C. 552a(c)(3), (d)(1), (2), (3), and (4), (e)(1), (e)(4)(G), (H), and (I), and (f) of the Privacy Act pursuant to 5 U.S.C. 552a(k)(2). See 31 CFR 1.36.

[FR Doc. 01-27002 Filed 10-25-01; 8:45 am]

BILLING CODE 4810-33-P